DEPARTMENT OF THE TREASURY

Office of the Comptroller of the Currency

FEDERAL RESERVE SYSTEM

FEDERAL DEPOSIT INSURANCE CORPORATION

Agency Information Collection Activities; Submission for OMB Review; Comment Request

AGENCY: Office of the Comptroller of the Currency (OCC), Treasury; Board of Governors of the Federal Reserve System (Board); and Federal Deposit Insurance Corporation (FDIC).

ACTION: Joint notice and request for comment.

SUMMARY: In accordance with the requirements of the Paperwork Reduction Act of 1995 (PRA), the OCC, the Board, and the FDIC (the agencies) may not conduct or sponsor, and the respondent is not required to respond to, an information collection unless it displays a currently valid Office of Management and Budget (OMB) control number. On November 30, 2020, the agencies, under the auspices of the Federal Financial Institutions Examination Council (FFIEC), requested public comment for 60 days on a proposal to revise and extend the Consolidated Reports of Condition and Income (Call Reports) (FFIEC 031, FFIEC 041, and FFIEC 051), which are currently approved collections of information. The agencies' proposal addressed measurement dates of total asset thresholds associated with the reporting of certain data in the Call Reports. The comment period for the November 2020 notice ended on January 29, 2021. After considering the comments received on the notice, the agencies are proceeding with the proposed revisions to the reporting forms and instructions for the Call Reports related to the agencies' asset-size thresholds rulemaking. The agencies hereby give notice of their plan to submit to OMB a request to approve the revision and extension of these information collections, and again invite comment on the renewal.

DATES: Comments must be submitted on or before March 22, 2021.

ADDRESSES: Interested parties are invited to submit written comments to any or all of the agencies. All comments, which should refer to the “Temporary Call Report Threshold Revisions,” will be shared among the agencies.

Written comments and recommendations for the proposed information collections should be sent within 30 days of publication of this notice to www.reginfo.gov/public/do/PRAMain. You may find these particular information collections by selecting “Currently under 30-day Review—Open for Public Comments” or by using the search function.

Comments should also be sent to:

OCC: You may submit comments, which should refer to “Temporary Call Report Threshold Revisions,” by any of the following methods:

• Email: prainfo@occ.treas.gov.

• Mail: Chief Counsel's Office, Office of the Comptroller of the Currency, Attention: 1557-0081 and 1557-0239, 400 7th Street SW, Suite 3E-218, Washington, DC 20219.

• Hand Delivery/Courier: 400 7th Street SW, Suite 3E-218, Washington, DC 20219.

Instructions: You must include “OCC” as the agency name and “1557-0081” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

You may review comments and other related materials that pertain to this information collection beginning on the date of publication of the second notice for this collection by the following method:

• Viewing Comments Electronically: Go to www.reginfo.gov. Click on the “Information Collection Review” tab. Underneath the “Currently under Review” section heading, from the drop-down menu select “Department of Treasury” and then click “submit.” This information collection can be located by searching by OMB control number “1557-0081.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

Board: You may submit comments, which should refer to “Temporary Call Report Threshold Revisions,” by any of the following methods:

• Agency website: http://www.federalreserve.gov. Follow the instructions for submitting comments at: http://www.federalreserve.gov/generalinfo/foia/ProposedRegs.cfm.

• Email: regs.comments@federalreserve.gov. Include “Temporary Call Report Threshold Revisions” in the subject line of the message.

• Fax: (202) 452-3819 or (202) 452-3102.

• Mail: Ann E. Misback, Secretary, Board of Governors of the Federal Reserve System, 20th Street and Constitution Avenue NW, Washington, DC 20551.

All public comments are available on the Board's website at https://www.federalreserve.gov/apps/foia/proposedregs.aspx as submitted, unless modified for technical reasons. Accordingly, your comments will not be edited to remove any identifying or contact information.

FDIC: You may submit comments, which should refer to “Temporary Call Report Threshold Revisions,” by any of the following methods:

• Agency website: https://www.fdic.gov/regulations/laws/federal/. Follow the instructions for submitting comments on the FDIC's website.

• Federal eRulemaking Portal: https://www.regulations.gov. Follow the instructions for submitting comments.

• Email: comments@FDIC.gov. Include “Temporary Call Report Threshold Revisions” in the subject line of the message.

• Mail: Manuel E. Cabeza, Counsel, Attn: Comments, Room MB-3128, Federal Deposit Insurance Corporation, 550 17th Street NW, Washington, DC 20429.

• Hand Delivery: Comments may be hand delivered to the guard station at the rear of the 550 17th Street Building (located on F Street) on business days between 7:00 a.m. and 5:00 p.m.

• Public Inspection: All comments received will be posted without change to https://www.fdic.gov/regulations/laws/federal/ including any personal information provided. Paper copies of public comments may be requested from the FDIC Public Information Center by telephone at (877) 275-3342 or (703) 562-2200.

FOR FURTHER INFORMATION CONTACT: For further information about the proposed revisions to the information collections discussed in this notice, please contact any of the agency staff whose names appear below. In addition, copies of the report forms for the Call Reports can be obtained at the FFIEC's website (https://www.ffiec.gov/ffiec_report_forms.htm).

OCC: Kevin Korzeniewski, Counsel, Chief Counsel's Office, (202) 649-5490.

Board: Nuha Elmaghrabi, Federal Reserve Board Clearance Officer, (202) 452-3884, Office of the Chief Data Officer, Board of Governors of the Federal Reserve System, 20th and C Streets NW, Washington, DC 20551. Telecommunications Device for the Deaf (TDD) users may call (202) 263-4869.

FDIC: Manuel E. Cabeza, Counsel, (202) 898-3767, Legal Division, Federal Deposit Insurance Corporation, 550 17th Street NW, Washington, DC 20429.

SUPPLEMENTARY INFORMATION:

Table of Contents

I. Report Summary

II. Current Actions

A. Background

B. Comments Received on the Proposed Call Report Revisions

III. Timing

IV. Request for Comment

I. Report Summary

The agencies propose to extend for three years, with revision, the FFIEC 031, FFIEC 041, and FFIEC 051 Call Reports.

Report Title: Consolidated Reports of Condition and Income.

Form Number: FFIEC 031 (Consolidated Reports of Condition and Income for a Bank with Domestic and Foreign Offices), FFIEC 041 (Consolidated Reports of Condition and Income for a Bank with Domestic Offices Only), and FFIEC 051 (Consolidated Reports of Condition and Income for a Bank with Domestic Offices Only and Total Assets Less Than $5 Billion).

Frequency of Response: Quarterly.

Affected Public: Business or other for-profit.

Type of Review: Revision and extension of currently approved collections.

OCC

OMB Control No.: 1557-0081.

Estimated Number of Respondents: 1,111 national banks and federal savings associations.

Estimated Average Burden per Response: 41.92 burden hours per quarter to file.

Estimated Total Annual Burden: 186,292 burden hours to file.

Board

OMB Control No.: 7100-0036.

Estimated Number of Respondents: 739 state member banks.

Estimated Average Burden per Response: 45.40 burden hours per quarter to file.

Estimated Total Annual Burden: 134,202 burden hours to file.

FDIC

OMB Control No.: 3064-0052.

Estimated Number of Respondents: 3,263 insured state nonmember banks and state savings associations.

Estimated Average Burden per Response: 39.96 burden hours per quarter to file.

Estimated Total Annual Burden: 521,558 burden hours to file.

The estimated average burden hours collectively reflect the estimates for the FFIEC 031, the FFIEC 041, and the FFIEC 051 reports for each agency. When the estimates are calculated by type of report across the agencies, the estimated average burden hours per quarter are 85.81 (FFIEC 031), 55.20 (FFIEC 041), and 35.27 (FFIEC 051). The agencies believe the change to the measurement date for the total asset thresholds used to determine additional reporting requirements for report dates in 2021 only described in this notice will not result in a change in the burden estimates currently approved by OMB. These estimates do not include increases in burden for report dates in 2021 that would have resulted from institutions growing above asset thresholds within the Call Report because these institutions would now be afforded threshold relief. Instead, the agencies periodically reevaluate their burden estimates based on the data items that are regularly completed by institutions. Therefore, the burden estimates for these reports would remain the same if these revisions are finalized. The estimated burden per response for the quarterly filings of the Call Report is an average that varies by agency because of differences in the composition of the institutions under each agency's supervision (e.g., size distribution of institutions, types of activities in which they are engaged, and existence of foreign offices).

Type of Review: Extension and revision of currently approved collections.

Legal Basis and Need for Collections

The Call Report information collections are mandatory: 12 U.S.C. 161 (national banks), 12 U.S.C. 324 (state member banks), 12 U.S.C. 1817 (insured state nonmember commercial and savings banks), and 12 U.S.C. 1464 (federal and state savings associations). At present, except for selected data items and text, these information collections are not given confidential treatment.

Banks and savings associations submit Call Report data to the agencies each quarter for the agencies' use in monitoring the condition, performance, and risk profile of individual institutions and the industry as a whole. Call Report data serve a regulatory or public policy purpose by assisting the agencies in fulfilling their shared missions of ensuring the safety and soundness of financial institutions and the financial system and protecting consumer financial rights, as well as agency-specific missions affecting national and state-chartered institutions, such as conducting monetary policy, ensuring financial stability, and administering federal deposit insurance. Call Reports are the source of the most current statistical data available for identifying areas of focus for on-site and off-site examinations. Among other purposes, the agencies use Call Report data in evaluating institutions' corporate applications, including interstate merger and acquisition applications for which the agencies are required by law to determine whether the resulting institution would control more than 10 percent of the total amount of deposits of insured depository institutions in the United States. Call Report data also are used to calculate institutions' deposit insurance assessments and national banks' and federal savings associations' semiannual assessment fees.

II. Current Actions

A. Background

On November 30, 2020, the agencies proposed revisions to the Call Reports ¹ to implement their assets-size threshold interim final rule (IFR).² The IFR adjusted the total asset measurement dates for eligibility to use the FFIEC 051 Call Report ³ and the community bank leverage ratio (CBLR) framework to measure regulatory capital.⁴ In addition to reflecting these regulatory changes, the agencies proposed Call Report revisions to permit an institution to use the lesser of the total consolidated assets reported in its Call Report as of December 31, 2019, or June 30, 2020, when determining whether the institution has crossed a total asset threshold to report certain additional data items in its Call Reports for report dates in calendar year 2021.

¹ 85 FR 76658 (Nov. 30, 2020).

² 85 FR 77345 (Dec. 2, 2020).

³ See 12 CFR 52.2 (OCC); 12 CFR 208.121 (Board); 12 CFR 304.12 (FDIC).

⁴ See 12 CFR 3.12 (OCC); 12 CFR 217.12 (Board); 12 CFR 324.12 (FDIC).

The comment period for the November 2020 notice ended on January 29, 2021.

B. Comments Received on the Proposed Call Report Revisions

The agencies received comments on these proposed Call Report revisions from one trade association. While the commenter supported the temporary change in measurement date for certain Call Report thresholds, the commenter asked the agencies to raise the eligibility threshold to file the FFIEC 051 from $5 billion to $10 billion in total assets.

The agencies have adopted rules establishing criteria for eligibility to use the FFIEC 051 Call Report.⁵ The current FFIEC 051 Call Report instructions permit an institution to file the FFIEC 051 Call Report if it meets certain criteria consistent with those rules. One criterion, consistent with Section 205 of the Economic Growth, Regulatory Relief, and Consumer Protection Act, is that an institution must have total consolidated assets of less than $5 billion in its Call Report as of June 30, 2020, when evaluating eligibility to use the FFIEC 051 Call Report for report dates in calendar year 2021. Due to rapid, short-term growth in assets by some institutions in 2020, which was in part driven by their participation in various coronavirus disease 2019 related relief programs, the agencies issued an IFR to temporarily adjust the total asset measurement dates for FFIEC 051 Call Report eligibility,⁶ and the agencies proposed conforming changes to the Call Report instructions. However, the IFR did not modify the total consolidated assets FFIEC 051 eligibility criteria of less than $5 billion contained in the rule's definition of covered depository institution. The agencies intend for the Call Report instructions to be consistent with the rule's definition of covered depository institutions.

⁵ See definition of covered depository institutions. 12 CFR 52.2 (OCC); 12 CFR 208.121 (Board); 12 CFR 304.12 (FDIC).

⁶ An institution must still meet the other criteria for eligibility for the FFIEC 051 in the Call Report instructions.

In addition to the comments received on the proposed Call Report revisions, the agencies received comments on their IFR. In order to implement reporting changes related to the IFR so that they are effective for the March 31, 2021, Call Report, the agencies must publish this notice in advance of concluding their review of comments on the IFR. Therefore, if any potential changes to the IFR would affect the Call Report, the agencies would publish for comment any associated revisions to the Call Report through the standard PRA process, as appropriate.

After considering the comments, the agencies are proceeding with the changes to the Call Reports as proposed.

The agencies also received a question from a Call Report software provider seeking clarification of the total asset amounts reported and used in calculations related to certain qualifying eligibility criteria for the CBLR. Generally, the Call Report instructions direct an institution to report total assets as reported in Schedule RC, item 12, in Schedule RC-R, Part I, item 32, “Total assets,” and use that total asset amount for other calculations in Schedule RC-R, Part I. An institution that is eligible for and elects to use the CBLR framework pursuant to the agencies' IFR would report the lesser of its total assets reported in Schedule RC, item 12, as of December 31, 2019, or as of the current quarter-end report date in Schedule RC-R, Part I, item 32. However, the agencies are clarifying that an institution should continue to use its total assets as reported in Schedule RC, item 12, as of the current quarter-end report date when reporting other qualifying criteria for the CBLR framework, i.e., the sum of trading assets and trading liabilities as a percentage of total assets in Schedule RC-R, item 33, column B, and total off-balance sheet exposures as a percentage of total assets in Schedule RC-R, Part I, item 34.d, column B.

III. Timing

As stated in the November 2020 notice, the agencies propose to permit an institution to use the lesser of the total consolidated assets reported in its Call Report as of December 31, 2019, or June 30, 2020, when determining its eligibility to file the FFIEC 051 Call Report and whether the institution has crossed a total asset threshold that requires the reporting of certain additional data items in its Call Reports (FFIEC 031, FFIEC 041, or FFIEC 051, as applicable) for report dates in calendar year 2021. The agencies are proposing this relief for calendar year 2021 only.

In addition, for report dates after the effective date of the agencies' asset thresholds rule through December 31, 2021, institutions that elect to use the CBLR framework would report CBLR information in Call Report Schedule RC-R, Part I, as reflected in the Call Report instruction book, except that item 32 (Total assets) on that schedule should reflect the lesser of the institution's total assets as of December 31, 2019, or as of the current quarter-end report date and other qualifying criteria reported on that schedule based on percentages of total assets should use the total assets as of the current quarter-end report date.

IV. Request for Comment

Public comment is requested on all aspects of this joint notice. Comment is specifically invited on:

(a) Whether the proposed revisions to the collections of information that are the subject of this notice are necessary for the proper performance of the agencies' functions, including whether the information has practical utility;

(b) The accuracy of the agencies' estimates of the burden of the information collections as they are proposed to be revised, including the validity of the methodology and assumptions used;

(c) Ways to enhance the quality, utility, and clarity of the information to be collected;

(d) Ways to minimize the burden of information collections on respondents, including through the use of automated collection techniques or other forms of information technology; and

(e) Estimates of capital or start-up costs and costs of operation, maintenance, and purchase of services to provide information.

Comments submitted in response to this joint notice will be shared among the agencies.

Theodore J. Dowd,
Deputy Chief Counsel, Office of the Comptroller of the Currency.
Board of Governors of the Federal Reserve System.
Michele Taylor Fennell,
Deputy Associate Secretary of the Board.
Federal Deposit Insurance Corporation.
Dated at Washington, DC, on or about February 10, 2021.
James P. Sheesley,
Assistant Executive Secretary.

[FR Doc. 2021-03210 Filed 2-17-21; 8:45 am]

BILLING CODE 4810-33-P; 6210-01-P; 6714-01-P